DEPARTMENT OF HOMELAND SECURITY

U.S. Customs and Border Protection

Approval of Omni Hydrocarbon Measurement, Inc., as a Commercial Gauger

AGENCY: U.S. Customs and Border Protection, Department of Homeland Security.

ACTION: Notice of approval of Omni Hydrocarbon Measurement, Inc., as a commercial gauger.

SUMMARY: Notice is hereby given, pursuant to CBP regulations, that Omni Hydrocarbon Measurement, Inc. has been approved to gauge petroleum and certain petroleum products for customs purposes for the next three years as of February 28, 2014.

DATES: The approval of Omni Hydrocarbon Measurement, Inc., as commercial gauger became effective on February 28, 2014. The next triennial inspection date will be scheduled for February 2017.

FOR FURTHER INFORMATION CONTACT: Approved Gauger and Accredited Laboratories Manager, Laboratories and Scientific Services, U.S. Customs and Border Protection, 1331 Pennsylvania Avenue NW., Suite 1500N, Washington, DC 20229, tel. 202-344-1060.

SUPPLEMENTARY INFORMATION: Notice is hereby given pursuant to 19 CFR 151.13, that Omni Hydrocarbon Measurement, Inc., 914 Kennings Avenue, Crosby, TX 77532, has been approved to gauge petroleum and certain petroleum products for customs purposes, in accordance with the provisions of 19 CFR 151.13. Omni Hydrocarbon Measurement, Inc. is approved for the following gauging procedures for petroleum and certain petroleum products per the American Petroleum Institute (API) Measurement Standards:

API chapters | Title
8 | Sampling.
10.9 | Standard Test Method for Water in Crude Oils by Coulometric Karl Fischer Titration.

Anyone wishing to employ this entity to conduct gauger services should request and receive written assurances from the entity that it is approved by the U.S. Customs and Border Protection to conduct the specific test or gauger service requested. Alternatively, inquiries regarding the specific test or gauger service this entity is approved to perform may be directed to the U.S. Customs and Border Protection by calling (202) 344-1060. The inquiry may also be sent to cbp.labhq@dhs.gov. Please reference the Web site listed below for a complete listing of CBP approved gaugers and accredited laboratories.

http://www.cbp.gov/sites/default/files/documents/gaulist_3.pdf

Dated: July 8, 2014.
Ira S. Reese,
Executive Director, Laboratories and Scientific Services Directorate.

[FR Doc. 2014-17001 Filed 7-18-14; 8:45 am]

BILLING CODE 9111-14-P